DEPARTMENT OF JUSTICE

Notice of Lodging of Two Consent Decrees Under the Comprehensive Environmental Response, Compensation and Liability Act

Under 28 CFR 50.7, notice is hereby given that on March 23, 2005, two proposed consent decrees in United States v. Parker Hannifin Corporation and Central Sprinkler Corporation, Civil Action No. 05-1351, were lodged with the United States District Court for the Eastern District of Pennsylvania.

In this action the United States is seeking injunctive relief and recovery of response costs incurred by the United States pursuant to the Compressive Environmental Response, Compensation and Liability Act (“CERCLA”), 42 U.S.C. 9601 et seq., in connection with the Parker Hannifin/Precision Rebuilding and the Central Sprinkler properties at the North Penn Area Six Superfund Site (“Site”), which consists of a contaminated groundwater plume and a number of separate parcels of property located within and adjacent to the Borough of Landsdale, Montgomery County, Pennsylvania. The proposed consent decrees will resolve the United States' claims against Parker Hannifin Corporation and Central Sprinkler Corporation (“Settling Defendants”) in connection with Operable Unite 3 at the Site. Under the terms of the proposed consent decrees, Settling Defendants will implement the EPA-selected groundwater remedies at their respective properties and reimburse the United States for certain future response costs. Settling Defendants will receive a covenant not to sue by the United States for performance of the work and for recovery of past and future response costs.

The Department of Justice will receive for a period of thirty (30) days from the date of this publication comments relating to the proposed consent decrees. Comments should be addressed to the Assistant Attorney General, Environment and Natural Resources Division, P.O. Box 7611, U.S. Department of Justice, Washington, DC 20044-7611, and should refer to United States v. Parker Hannifin Corporation et al, D.J. Ref. 90-11-2-06024/10.

The proposed consent decrees may be examined at the Office of the United States Attorney, 615 Chestnut Street, Suite 1250, Philadelphia, PA 19106, and at U.S. EPA Region III, 1650 Arch Street, Philadelphia, PA 19103. During the public comment period, the proposed consent decrees may also be examined on the following Department of Justice Web site http://www.usdoj.gov/enrd/open.html. A copy of one or both of the proposed consent decrees may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy or copies from the Consent Decree Library, please enclose a check in the amount of $37.75 for a copy the proposed consent decree with Parker Hannifin Corporation, $38.25 for a copy of the proposed consent decree with Central Sprinkler Corporation, or $76.00 for copies of both (25 cents per page reproduction cost). Checks should be made payable to the U.S. Treasury.

Robert Brook,
Assistant Chief, Environmental Enforcement Section, Environmental and Natural Resources Division.

[FR Doc. 05-6846 Filed 4-5-05; 8:45 am]

BILLING CODE 4410-15-M